DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2003, there were five applications approved. This notice also includes information on two applications, one approved in April 2003 and the other approved in May 2003, inadvertently left off the April 2003 and May 2003 notices, respectively. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: County of Kalamazoo, Kalamazoo, Michigan.

Application Number: 03-04-C-00-AZO.

Application Type: Impose and use a PFC.

PFC Level: $3.00.

Total PFC Revenue Approved in This Decision: $2,080,000.

Earliest Charge Effective Date: December 1, 2003.

Estimated Charge Expiration Date: May 1, 2007.

Class of Air Carriers Not Required To Collect PFC'S:

(1) Non-scheduled part 135 operators; and (2) air taxi operators.

Determination: Approved. Based on information contained in the public agency's application, the FAA has determined that each approved class accounts for less than 1 percent of the total annual enplanements at Kalamazoo/Battle Creek International Airport.

Brief Description of Projects Approved for Collection and Use:

Terminal design—landside.

Terminal design—gates and bag claim.

Terminal design—security check point.

Terminal design—public terminal area.

Terminal design—PFC financial consulting service—phase I.

Decision Date: April 1, 2003.

For Further Information Contact: Arlene B. Draper, Detroit Airports District Office, (734) 487-7282.

Public Agency: Mason City Airport Commission, Mason City, Iowa.

Application Number: 03-02-C-00-MCW.

Application Type: Impose and use a PFC.

PFC Level: $4.50.

Total PFC Revenue Approved in This Decision: $379,500.

Earliest Charge Effective Date: August 1, 2003.

Estimated Change Expiration Date: August 1, 2009.

Class of Air Carriers Not Required To Collect PFC'S: Nonscheduled part 135 and air taxi operators.

Determination: Approved. Based on information contained in the public agency's application, the FAA has determined that the approved class accounts for less than 1 percent of the total annual enplanements at Mason City Municipal Airport.

Brief Description of Projects Approved For Collection and Use:

Runway safety area improvements.

Runway edge drains, phase 2.

Reconstruct terminal and general aviation ramps.

Reconstruct terminal restrooms.

Aircraft passenger lift.

Replace wind cone and install supplemental wind cone.

Airport master plan.

Rehabilitate runway 17/35 (design).

Acquire land in runway protection zones.

PFC consultation services.

Decision Date: May 13, 2003.

For Further Information Contact: Lorna Sandridge, Central Region Airports Division, (816) 329-2641.

Public Agency: County of Okaloosa, Crestview, Florida.

Application Number: 03-02-C-00-VPS.

Application Type: Impose and use a PFC.

PFC Level: $4.50.

Total PFC Revenue Approved in This Decision: $2,885,235.

Earliest Charge Effective Date: August 1, 2018.

Estimated Charge Expiration Date: December 1, 2019.

Class of Air Carriers Not Required To Collect PFC'S: Charter operators.

Determination: Approved. Based on information contained in the public agency's application, the FAA has determined that the approved class accounts for less than 1 percent of the total annual enplanements at Okaloosa Regional Airport.

Brief Description of Projects Approved for Collection and Use:

Construct and equip expansion to surface public parking lot.

PFC formulation and annual administrative costs.

Decision Date: July 3, 2003.

For Further Information Contact: Bill Farris, Orlando Airports District Office, (407) 812-6331, extension 25.

Public Agency: Broward County Aviation Department, Fort Lauderdale, Florida.

Application Number: 02-05-C-00-FLL.

Application Type: Impose and use a PFC.

PFC Level: $3.00.

Total PFC Revenue Approved in This Decision: $91,967,755.

Earliest Charge Effective Date: March 1, 2008.

Estimated Charge Expiration Date: March 1, 2011.

Class of Air Carriers Not Required To Collect PFC'S: Air taxi/commercial operators.

Determination: Approved. Based on information contained in the public agency's application, the FAA has determined that the approach class accounts for less than 1 percent of the total annual enplanements at Fort Lauderdale—Hollywood International Airport.

Brief Description of Projects Approved for Collection and Use:

Exit roadways—pre-design.

Concourse A—pre-design.

Concourse A apron—pre-design.

International terminal—federal inspection station—design.

Automated people mover pre-design planning and programming.

Master plan update.

Brief Description of Projects Approved for Collection:

Exit roadways—final design/construction.

Taxiway C—improvements west of runway 13/31.

Taxiway C phase II—design.

Decision Date: July 14, 2003.

For Further Information Contact: Matthew J. Thys, Orlando Airports District Office, (407) 812-6331, extension 21.

Public Agency: City of St. Louis Airport Authority, St. Louis, Missouri.

Application Number: 03-03-C-00-STL.

Application Type: Impose and use a PFC.

PFC Level: $3.00.

Total PFC Revenue Approved in This Decision: $13,806,955.

Earliest Charge Effective Date: December 1, 2016.

Estimated Charge Expiration Date: June 1, 2017.

Class of Air Carriers Not Required To Collect PFC's: Air taxi/commercial operators filing FAA Form 1800-31.

Determination: Approved. Based on information contained in the public agency's application, the FAA has determined that the proposed class accounts for less than 1 percent of the total annual enplanements at Lambert-St. Louis International Airport.

Brief Description of Projects Approved for Collection and Use:

Airport maintenance facility.

Concourse C federal inspection services elevators and stairs.

Brief Description of Project Partially Approved for Collection and Use: C/D connector.

Determination: Partially approved. The portion of this project which is not in a non-revenue producing public-use area related to the movement of passengers, but rather in an area designated for concession use (approximated 30 percent) is not eligible.

Decision Date: July 18, 2003.

For Further Information Contact: Lorna Sandridge, Central Region Airports Division, (816) 329-2641.

Public Agency: Lexington—Fayette Urban County Airport Board, Lexington, Kentucky.

Application Number: 03-05-C-00-LEX.

Application Type: Impose and use a PFC.

PFC Level: $4.50.

Total PFC Revenue Approved in This Decision: $53,671,204.

Earliest Charge Effective Date: December 1, 2003.

Estimated Charge Expiration Date: March 1, 2005.

Class of Air Carriers Not Required To Collect PFC's: Air carriers operating under part 135 on a non-scheduled, whole-plane charter basis, that is air taxi/commercial operators filing FAA Form 1800-31.

Determination: Approved. Based on information contained in the public agency's application, the FAA has determined that the proposed class accounts for less than 1 percent of the total annual enplanements at Blue Grass Airport.

Brief Description of Projects Approved for Collection and Use:

Air carrier ramp expansion.

Security upgrades.

Concourse B and C stairwells.

Taxiways A rehabilitation.

Runways 8/26 rehabilitation.

Air carrier ramp rehabilitation.

PFC application development.

PFC program administration.

Brief Description of Projects Approved for Collection:

Runway safety area improvements.

Terminal interior modifications.

Concourse gate addition.

Decision Date: July 29, 2003.

For Further Information Contact: Tommy L. Dupree, Memphis Airports District Office, (901) 544-3495, extension 215.

Public Agency: Helena Regional Airport Authority, Helena, Montana.

Application Number: 03-03-C-00-HLN.

Application Type: Impose and use a PFC.

PFC Level: $4.50.

Total PFC Revenue Approved in This Decision: $2,336,432.

Earliest Charge Effective Date: October 1, 2003.

Estimated Charge Expiration Date: June 1, 2010.

Class of Air Carriers Not Required To Collect PFC's: Air taxi/commercial operators filing FAA Form 1800-31.

Determination: Approved. Based on information contained in the public agency's application, the FAA has determined that the proposed class accounts for less than 1 percent of the total annual enplanements at Helena Regional Airport.

Brief Description of Projects Approved for Collection and Use:

Disabled passenger access lift acquisition.

Phase I—southside taxilane construction.

Phase II—southside taxilane construction.

Runway 9 perimeter access road.

Terminal building expansion and remodel.

Snow removal equipment acquisition.

Aircraft rescue and firefighting equipment acquisition.

Brief Description of Project Partially Approved for Collection and Use: Loop road and parking lot improvements.

Determination: The total project cost, and thus the portion to be paid by PFC revenue, was reduced after the application was submitted and before the FAA ruled on the decision.

Decision Date: July 29, 2003.

For Further Information Contact: David S. Stelling, Helena Airports District Office, (406) 449-5271.

Amendments to PFC Approvals
Amendment No. city, State | Amendment approved date | Original approved net PFC revenue | Amended approved net PFC revenue | Original estimated charge exp. date | Amended estimated charge exp. date
98-03-C-03-DSM, Des Moines, IA | 05/08/03 | $7,899,744 | $8,782,783 | 05/01/04 | 05/01/04
03-06-C-01-GPT, Gulfport, MS | 07/02/03 | 3,922,709 | 5,976,506 | 09/01/12 | 03/01/17
03-05-C-01-BUR, Burbank, CA | 07/10/03 | 17,509,405 | 20,135,816 | 11/01/09 | 03/01/10
92-01-C-03-MGW, Morgantown, WV | 07/14/03 | 63,044 | 54,022 | 01/01/94 | 09/01/93
95-02-C-06-STL, St. Louis, MO | 07/17/03 | 91,640,971 | 75,131,773 | 11/01/97 | 07/01/97
97-03-U-04-STL, St. Louis, MO | 07/17/03 | NA | NA | 11/01/97 | 07/01/97
01-07-C-01-STL, St. Louis, MO | 07/17/03 | 99,103,000 | 81,330,000 | 03/01/15 | 12/01/16
*03-04-C-01-JAN, Jackson, MS | 07/22/03 | 5,101,722 | 5,101,722 | 06/01/10 | 01/01/08
99-01-C-02-AEX, Alexandria, LA | 07/31/03 | 5,378,352 | 10,284,927 | 11/01/20 | 12/01/22
Note: The amendment denoted by an asterisk (*) includes a change to the PFC level charged from $3.00 per enplaned passenger to $4.50 per enplaned passenger. For Jackson, MS, this change is effective on January 1, 2006.

Issued in Washington, DC, on August 19, 2003.
David S. Stelling,
Acting Manager, Financial Analysis and Passenger Facility Charge Branch.

[FR Doc. 03-21774 Filed 8-25-03; 8:45 am]

BILLING CODE 4910-13-M